DEPARTMENT OF COMMERCE

Submission for OMB Review; Comment Request

DOC has submitted to the Office of Management and Budget (OMB) for clearance the following proposal for collection of information under the provisions of the Paperwork Reduction Act (44 U.S.C. chapter 35).

Agency: Census Bureau.

Title: 2000 Panel of the Survey of Income and Program Participation, Wave 3.

Form Number(s): SIPP/CAPI Automated Instrument.

Agency Approval Number: 0607-0865.

Type of Request: Revision of a currently approved collection.

Burden: 37,650.

Number of Respondents: 26,250.

Avg Hours Per Response: 30 minutes.

Needs and Uses: The Census Bureau conducts the Survey of Income and Program Participation (SIPP) to collect information concerning the distribution of income received directly as money or indirectly as in-kind benefits. SIPP data are used by economic policymakers, the Congress, state and local governments, and Federal agencies that administer social welfare and transfer payment programs such as the Department of Health and Human Services, the Department of Housing and Urban Development, and the Department of Agriculture.

The SIPP is a longitudinal survey, in that households in the panel are interviewed at 4-month intervals or waves over the life of the panel. The duration of a panel is typically 3 to 4 years. The length of the 2000 SIPP Panel is subject to the approval of budget initiatives but is currently scheduled for one year and will include three waves of interviews.

The survey is molded around a central core of labor force and income questions, health insurance questions, and questions concerning government program participation that remain fixed throughout the life of the panel. The core questions are asked in Wave 1 and are updated during subsequent interviews. The core is supplemented with additional questions or topical modules designed to answer specific needs.

This request is for clearance of the topical modules for Wave 3. The core questionnaire and topical modules for Waves 1 and 2 were cleared previously. The topical modules for Wave 3 are: Medical Expenses and Utilization of Health Care (Adults and Children); Work Related Expenses and Child Support Paid; and Assets, Liabilities, and Eligibility. Wave 3 interviews will be conducted from October 2000 through January 2001. Additionally, a reinterview for quality control purposes will be conducted with a small subsample of respondents throughout the life of the panel.

Affected Public: Individuals or households.

Frequency: Every 4 months.

Respondent's Obligation: Voluntary.

Legal Authority: Title 13, United States Code, Section 182.

OMB Desk Officer: Susan Schechter, (202) 395-5103.

Copies of the above information collection proposal can be obtained by calling or writing Linda Engelmeier, DOC Forms Clearance Officer, (202) 482-3272, Department of Commerce, room 5033, 14th and Constitution Avenue, NW, Washington, DC 20230 (or via the Internet at LEngelme@doc.gov).

Written comments and recommendations for the proposed information collection should be sent within 30 days of publication of this notice to Susan Schechter, OMB Desk Officer, room 10201, New Executive Office Building, Washington, DC 20503.

Dated: May 23, 2000.
Madeleine Clayton,
Management Analyst, Office of the Chief Information Officer.

[FR Doc. 00-13296 Filed 5-25-00; 8:45 am]

BILLING CODE 3510-07-P